DEPARTMENT OF ENERGY

Federal Energy Regulatory Commission

[Docket No. EL11-42-000]

Astoria Generating Company, L.P., NRG Power Marketing LLC, Arthur Kill Power LLC, Astoria Gas Turbine Power LLC, Dunkirk Power LLC, Huntley Power LLC, Oswego Harbor Power LLC, TC Ravenswood, LLC; v. New York Independent System Operator, Inc.; Notice of Complaint

Take notice that on June 3, 2011, pursuant to sections 206 and 306 of the Federal Power Act, 16 U.S.C. 824e and 825e (2006) and Rule 206 of the Rules of Practice and Procedure of the Federal Energy Regulatory Commission (Commission), 18 CFR 385.206 (2011), Astoria Generating Company, L.P., NRG Power Marketing LLC, Arthur Kill Power LLC, Astoria Gas Turbine Power LLC, Dunkirk Power LLC, Huntley Power LLC, Oswego Harbor Power LLC and TC Ravenswood, LLC (collectively Complainants), filed a complaint against the New York Independent System Operator, Inc. (NYISO or Respondent), alleging that (1) The NYISO's implementation of buyer-side market power mitigation provisions set forth in Attachment H of the NYISO Market Administration and Control Area Services Tariff (Services Tariff) is in contravention of the requirements of the Services Tariff, and Commission orders and policy; or (2) if such implementation does not violate the Services Tariff, the buyer-side market power mitigation provisions of the Services Tariff are unjust, unreasonable and unduly discriminatory.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 23, 2011.

Dated: June 7, 2011.
Kimberly D. Bose,
Secretary.

[FR Doc. 2011-14631 Filed 6-13-11; 8:45 am]

BILLING CODE 6717-01-P